DEPARTMENT OF AGRICULTURE

Forest Service

DEPARTMENT OF THE INTERIOR

Bureau of Land Management

Notice of Availability of the Mountain Valley Pipeline Project and Equitrans Expansion Project Draft Environmental Impact Statement and the USFS Draft Associated Land and Resource Management Plan Amendments

AGENCY: Forest Service, USDA; Bureau of Land Management, Interior.

ACTION: Notice of availability.

SUMMARY: In accordance with the National Environmental Policy Act of 1969 (NEPA), as amended; the Federal Land Policy and Management Act of 1976, as amended; and the National Forest Management Act of 1976, as amended (NFMA), the Bureau of Land Management (BLM), the U.S. Forest Service (USFS) and the U.S. Army Corps of Engineers (USACE) have participated as cooperating agencies with the Federal Energy Regulatory Commission (FERC) in the preparation of the Mountain Valley Pipeline Project (MVP) and Equitrans Expansion Project (Equitrans) Draft Environmental Impact Statement (EIS). The Draft EIS addresses the impacts of these projects, the associated draft Jefferson National Forest Revised Land and Resource Management Plan (LRMP) amendments of the USFS, and the application to the BLM for a right-of-way grant sought by Mountain Valley Pipeline LLC (Mountain Valley) for the MVP project. With this agency-specific Notice of Availability, the BLM and the USFS are announcing the opening of the FERC comment period. Comments need to be timely and specific, showing a direct relationship to the proposal and include supporting reasons.

DATES: To ensure that comments will be considered, the FERC must receive written comments on the MVP Project and Equitrans Project Draft EIS within 90 days following the date of publication of the FERC Notice of Availability (NOA) for the draft EIS in the Federal Register. The FERC's NOA also lists public meetings where interested groups and individuals can attend and present oral comments on the draft EIS.

ADDRESSES: You may submit comments related to the MVP Project and Equitrans Project Draft EIS, including any comments related to the BLM consideration of the issuance of a right-of-way grant to cross federal lands, the USFS consideration of LRMP amendments, and/or the USFS consideration of submitting a concurrence to BLM, to the FERC by any of the four methods listed below. The FERC encourages electronic filing of comments and has expert staff available to assist you at (202) 502-8258 or efiling@ferc.gov. Please carefully follow these instructions so that your comments are properly recorded.

(1) You can file your comments electronically using the eComment feature on the FERC's Web site (www.ferc.gov) under the link to Documents and Filings. This is an easy method for submitting brief, text-only comments on a project;

(2) You can file your comments electronically by using the eFiling feature on the FERC's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP16-10-000) with your submission: Kimberly D. Bose, Secretary, Federal Energy Regulatory Commission, 888 First Street NE., Room 1A, Washington, DC 20426.

(4) In lieu of sending written or electronic comments, you can submit oral comments at any of the FERC-sponsored public sessions that are scheduled in the FERC Notice of Availability for the draft EIS.

Your comments must reference the FERC Docket number for the Mountain Valley Pipeline Project, LP, Docket No. CP16-10-000, to be correctly attributed to this specific project. Copies of the MVP Project and Equitrans Project Draft EIS are available for inspection in the office of the Forest Supervisor for the George Washington and Jefferson National Forests.

FOR FURTHER INFORMATION CONTACT: Additional information about the projects is available from the FERC's Office of External Affairs at 866-208-FERC (3372), or on the FERC Web site (www.ferc.gov). On the FERC's Web site, go to “Documents & Filings,” click on the “eLibrary” link, click on “General Search” and enter the docket number CP16-10. Be sure you have selected an appropriate date range. For assistance, please contact FERC Online Support at FercOnlineSupport@ferc.gov, or toll free at 866-208-3676, or for TTY, contact 202-502-8659. The eLibrary link also provides access to the texts of formal documents issues by the FERC such as orders, notices, and rulemakings.

SUPPLEMENTARY INFORMATION: This NOA is specific to the BLM and the USFS and provides notice that these agencies have participated as cooperating agencies with FERC in the preparation of the MVP Project and Equitrans Project Draft EIS. The Mountain Valley Pipeline route would cross about 3.4 miles of lands managed by the USFS, the Jefferson National Forest, in Monroe County, West Virginia and Giles and Montgomery counties, Virginia. The Equitrans Expansion Project would not cross the Jefferson National Forest.

The FERC is the NEPA Lead Federal Agency for the environmental analysis of the construction and operation of the proposed MVP and Equitrans Projects. Under the Mineral Leasing Act (30 U.S.C. 185 et seq.), the BLM is the federal agency responsible for issuing right-of-way grants for natural gas pipelines across federal lands under the jurisdiction of two or more federal agencies. Therefore, the BLM is considering the issuance of a right-of-way grant to Mountain Valley for pipeline construction across the lands under the jurisdiction of the USFS and the USACE.

Before issuing the right-of-way grant, the BLM would acquire the written concurrences of the USFS and USACE. Through this concurrence process, the USFS would submit to the BLM any specific stipulations applicable to lands, facilities, water bodies, and easements for inclusion in the right-of-way grant.

In order for the potential actions to be consistent with the LRMP, the USFS would need to make several amendments to the LRMP. The amendments would provide for the construction and operation of the natural gas pipeline to occur on the Jefferson National Forest. The USFS would need to make these amendments before USFS could issue a letter of concurrence to the BLM.

The FERC's draft EIS includes the consideration of a BLM right-of-way grant across federal lands for the USFS and USACE and the associated USFS LRMP amendments. The BLM and USFS can adopt FERC's EIS for agency decisions if the analysis provides sufficient evidence to support the agencies' decisions and the agencies are satisfied that agency comments and suggestions have been addressed.

The BLM's purpose and need for the proposed action in FERC's draft EIS is to respond to a right-of-way grant application submitted by the applicant to the BLM on April 5, 2016 to construct, operate, maintain, and eventually decommission a new 42-inch-diameter natural gas pipeline across approximately 3.4 miles of lands managed by the USFS and about 125 feet of federal lands managed by the USACE.

The USFS's purpose and need for the proposed action is to evaluate the following amendments to the LRMP for the Jefferson National Forest and to consider issuing a concurrence to the BLM for the right-of-way grant.

The first type of LRMP amendment would be a “plan-level amendment” that would change land allocations. This would change future management direction for the lands reallocated to the new management prescription (Rx) and is required by LRMP Standard FW-248.

Proposed Amendment 1: The LRMP would be amended to reallocate 186 acres to the Management Prescription 5C-Designated Utility Corridors from these Rxs: 4J-Urban/Suburban Interface (56 acres); 6C-Old Growth Forest Communities-Disturbance Associated (19 ac); and 8A1-Mix of Successional Habitats in Forested Landscapes (111 acres).

Rx 5C-Designated Utility Corridors contain special uses which serve a public benefit by providing a reliable supply of electricity, natural gas, or water essential to local, regional, and national economies. The new Rx 5C land allocation would be 500 feet wide (250 feet wide on each side of the pipeline), with two exceptions: (1) The area where the pipeline crosses Rx 4A-Appalachian National Scenic Trail Corridor would remain in Rx 4A; and (2) the new 5C area would not cross into Peters Mountain Wilderness so the Rx 5C area would be less than 500 feet wide along the boundary of the Wilderness.

The second type of amendment would be a “project-specific amendment” that would apply only to the construction and operation of this pipeline. The following standards would require a temporary “waiver” to allow the project to proceed. These amendments would not change LRMP requirements for other projects or authorize any other actions.

Proposed Amendment 2: The LRMP would be amended to allow construction of the Mountain Valley Pipeline to exceed restrictions on soil conditions and riparian corridor conditions as described in LRMP standards FW-5, FW-9, FW-13, FW-14 and 11-017, provided that mitigation measures or project requirements agreed upon by the Forest Service are implemented as needed.

Proposed Amendment 3: The LRMP would be amended to allow the removal of old growth trees within the construction corridor of the Mountain Valley Pipeline. (Reference LRMP Standard FW-77)

Proposed Amendment 4: The LRMP would be amended to allow the Mountain Valley Pipeline to cross the Appalachian National Scenic Trail on Peters Mountain. The Scenic Integrity Objective for the Rx 4A area and the Trail will be changed from High to Moderate. This amendment also requires the SIO of Moderate to be achieved within five to ten years following completion of the project to allow for vegetation growth. (Reference LRMP Standards 4A-021 and 4A-028)

The decision for a right-of-way grant across federal lands would be documented in a Record of Decision (ROD) issued by the BLM. The BLM's decision to issue, condition, or deny a right of way would be subject to BLM administrative review procedures established in 43 CFR 2881.10 and the procedures established in section 313(b) of the Energy Policy Act of 2005. The USFS concurrence to BLM to issue the right-of-way grant would not be a decision subject to the NEPA and therefore would not be subject to USFS administrative review procedures. The USFS would issue its own draft ROD for the LRMP amendments that would be subject to administrative review prior to final decision. Proposed Amendment 1 was developed in accordance to 36 CFR part 219 (2012 version) regulations and would be subject to the administrative review procedures under 36 CFR part 219 subpart B. Proposed Amendments 2, 3 and 4 were developed in accordance to 36 CFR part 219 (2012) regulations but would be subject to the administrative review procedures under 36 CFR part 218 regulations subparts A and B, per 36 CFR 219.59(b). Refer to the applicable administrative review regulations for eligibility requirements.

The BLM is requesting public comments on the issuance of a right-of-way grant that would allow the MVP to be constructed on Federal lands managed by the USFS and USACE. The USFS is requesting public comments on the consideration of submitting a concurrence to BLM and the draft amendments of the LRMP to allow for the MVP Project on the Jefferson National Forest. All comments must be submitted to the FERC, the Lead Federal Agency within the timeframe stated in FERC's Notice of Availability for their draft EIS. Refer to Docket CP16-10-000 (Mountain Valley Pipeline) in all correspondence to ensure that your comments are correctly filed in the record. You may submit comments to the FERC using one of the methods listed in the ADDRESSES section above. Only those who submit timely and specific written comments regarding the proposed project during a public comment period are eligible to file an objection with the USFS. Before including your address, phone number, email address, or other personal identifying information in your comments, you should be aware that the entire text of your comments—including your personal identifying information— would be publicly available through the FERC eLibrary system, if you file your comments with the Secretary of the FERC.

Responsible Official for USFS LRMP Amendments: The Forest Supervisor for the George Washington and Jefferson National Forests is the Responsible Official for the LRMP Amendments.

Authority: 40 CFR 1506.6, 40 CFR 1506.10, 43 CFR 1610.2.

Dated: September 21, 2016.
Karen Mouritsen,
State Director, Eastern States.
Dated: September 13, 2016.
Joby P. Timm,
Forest Supervisor, George Washington and Jefferson National Forests.

[FR Doc. 2016-24833 Filed 10-13-16; 8:45 am]

BILLING CODE 3411-15-P